DEPARTMENT OF HEALTH AND HUMAN SERVICES

Administration for Children and Families

Submission for OMB Review; ACF Performance Progress Report, ACF-OGM-SF-PPR-B

AGENCY: Office of Grants Management, Administration for Children and Families, HHS.

ACTION: Request for public comment.

SUMMARY: The Office of Grants Management (OGM), in the Administration for Children and Families (ACF) is requesting a 3-year extension of the form ACF-OGM-SF-PPR-B (OMB #0970-0406, expiration 9/30/2019). There are no changes requested to the form.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street, SW, Washington, DC 20201, Attn: OPRE Reports Clearance Officer. All requests, emailed or written, should be identified by the title of the information collection.

SUPPLEMENTARY INFORMATION: Description: The ACF Office of Grants Management proposes to continue collecting program performance data for ACF's discretionary grantees using the existing ACF-OGM-SF-PPR-B (OMB #0970-0406, expiration 9/30/2019) form with no changes. The form, developed by OGM, was created from the basic template of the OMB-approved reporting format of the Program Performance Report. OGM uses this data to ensure grantees are proceeding in a satisfactory manner in meeting the approved goals and objectives of the project, and if funding should be continued for another budget period.

The requirement for grantees to report on performance is OMB grants policy. Specific citations are contained in 45 CFR part 75 Uniform Administrative Requirements, Cost Principles, and Audit Requirements for HHS Awards.

Respondents: All ACF Discretionary Grantees. State governments, Native American Tribal governments, Native American Tribal Organizations, Local Governments, and Nonprofits with or without 501(c)(3) status with the IRS.

Annual Burden Estimates
Instrument | Total number of respondents | Total number of responses per respondent | Average burden hours per response | Total burden hours | Annual burden hours
ACF-OGM-SF-PPR-B | 6,000 | 6 | 1 | 36,000 | 12,000

Estimated Total Annual Burden Hours: 12,000.

(Authority: 45 CFR part 75).

Mary B. Jones,
ACF/OPRE Certifying Officer.

[FR Doc. 2019-22343 Filed 10-11-19; 8:45 am]

BILLING CODE 4184-01-P